DEPARTMENT OF COMMERCE

Foreign-Trade Zones Board

[B-49-2024]

Foreign-Trade Zone (FTZ) 250, Notification of Proposed Production Activity; Boss Laser LLC; (Laser Machines); Sanford, Florida

Boss Laser LLC submitted a notification of proposed production activity to the FTZ Board (the Board) for its facility in Sanford, Florida, within FTZ 250. The notification conforming to the requirements of the Board's regulations (15 CFR 400.22) was received on September 4, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: fiber laser marking machines (with stand and safety enclosure; with stand and no safety enclosure; desktop); fiber laser cutting machines; fiber laser cutting machines with pipe cutting attachment; fiber laser welding machines; carbon dioxide laser cutting and marking machines; dual source carbon dioxide laser and fiber laser cutting machines; and, ultraviolet laser desktop marking machines (duty rate ranges from duty-free to 3.5%).

The proposed foreign-status materials/components include: acrylic paint; windows (polycarbonate; safety glass); universal serial bus Wi-Fi routers; rubber components (exhaust tubing; O-rings); aluminum components (honeycomb tables; worktable knife blade supports; laser nozzles); mild steel worktable knife blade supports; casters with metal legs and rubber wheels; machine leveling feet with metal legs and rubber feet; rotary tools (for fiber laser marking machines; for carbon dioxide laser machines); water chillers; carbon dioxide laser glass tubes; fiber laser power converters; electric ballasts; zinc alloy handles; gas spring shock absorbing struts; fans (centrifugal exhaust; internal cooling); air compressors; metal components (latches for external machinery doors; door and hood hinges; body panels and doors; laser mirror and lens housings; linear guide components (rails; bearings; blocks); cogs; pulleys; plates; shims; rulers and scale plates; clamps and clips; retaining rings; bushings; laser lens and nozzle removal tools; flow valves); water pumps (submersible; water chiller); plastic components (door and hood hinges; mounting brackets; cogs; pulleys; fittings; cases for packaging); laser components (mirrors; lenses; control cards); electric motors (for fiber laser cutting machinery; for carbon dioxide laser machinery); electric motor drivers; nylon and silicone tubing (for lubrication; for water; for air); decals and labels with adhesive backing; voltage stabilizers; electrical components (cables; wires; plugs for laser rotary tools; breakers; connectors; resistors; capacitors; filters); residual current terminal blocks; locksets and accompanying keys; fittings (brass; copper); iron components (fittings; bolts; screws); steel components (fittings; flanges; bolts; screws); light emitting diode components (indicator panels; strips); pin terminals for electrical wires; polyvinyl chloride bellows; electromechanical switches and relays; laser head assemblies; wiring harness assemblies; liquid crystal display control panels; connecting and worm rods; mechanical ball bearings; integral shaft bearings; filters for fume and odor extractor machines; fume and odor extractor machines; handheld remote controls for laser controller software; wireless computer components (mouses; keyboards); standalone computer towers without monitors; oil pumps; solenoids; water flow sensors and meters; proximity sensors and limit switches; laser safety glasses; shafts (wheel and reduction; drive); digital components (controller software; cameras; video recorders); metal flathead screwdrivers with plastic handles; magnets; random access memory for computers; computer mousepads (duty rate ranges from duty-free to 9.0%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is November 4, 2024.

A copy of the notification will be available for public inspection in the “Online FTZ Information System” section of the Board's website.

For further information, contact Juanita Chen at juanita.chen@trade.gov.

Dated: September 17, 2024.
Elizabeth Whiteman,
Executive Secretary.

[FR Doc. 2024-21658 Filed 9-20-24; 8:45 am]

BILLING CODE 3510-DS-P